DEPARTMENT OF HOUSING AND URBAN DEVELOPMENT

[Docket No. FR-6081-D-02]

Redelegation of Authority for the Office of Field Policy and Management

AGENCY: Office of Field Policy and Management, HUD.

ACTION: Notice of Redelegation of Authority.

SUMMARY: Through this notice, the Assistant Deputy Secretary for Field Policy and Management and the Associate Assistant Deputy Secretary for Field Policy and Management redelegate certain operational management authority to the HUD regional administrators located in Region I (Boston, MA); Region II (New York, NY); Region III (Philadelphia, PA); Region IV (Atlanta, GA); Region V (Chicago, IL); Region VI (Fort Worth, TX); Region VII (Kansas City, KS); Region VIII (Denver, CO); Region IX (San Francisco, CA); and Region X (Seattle, WA).

DATES: Applicable Date: September 19, 2018.

FOR FURTHER INFORMATION CONTACT: John B. Shumway, Assistant General Counsel, Administrative Law Division, Department of Housing and Urban Development at 451 7th Street SW, Room 9262; Washington, DC 20410-0500 or at telephone number, 202-402-3502 (this is not a toll-free number). This number may be accessed through TTY by calling the Federal Relay Service, toll-free, at 800-877-8339.

SUPPLEMENTARY INFORMATION: By separate notice published in today's Federal Register, the Secretary of HUD delegates to the Assistant Deputy Secretary for Field Policy and Management and the Associate Assistant Deputy Secretary for Field Policy and Management authority for the management and oversight of the Department's field operations, and further authorizes the Assistant Deputy Secretary and Associate Assistant Deputy Secretary to redelegate such authority. Through this notice, the Assistant Deputy Secretary for Field Policy and Management and the Associate Assistant Deputy Secretary for Field Policy and Management redelegate certain operational management authority to the HUD regional administrators. This notice supersedes these and all prior redelegations to the HUD regional administrators.

Section I: Authority Redelegated

A. Cross-Program Coordination. Each regional administrator is redelegated the following duties:

1. Develop and implement place-based Regional and Field Operating Plans in consultation with field program directors.

2. To develop, approve, track, and oversee the Regional Operating Plan priority projects and initiatives that cross program office lines.

3. Prepare briefing papers and hot issue reports.

4. Lead disaster relief efforts.

5. Convene on-site program teams (e.g., Community Planning and Development, Office of General Counsel, Fair Housing and Equal Opportunity, Public and Indian Housing, etc.), as necessary and in consultation with field program directors, to review proposed, major projects or initiatives for place-based impact.

6. Assist state and local housing officials in assessing the impact of housing foreclosures.

7. Convene place-based teams, as necessary and in consultation with field program directors, to review Consolidated Plans during the 45-day review period.

8. Provide comments to Public and Indian Housing field directors on public housing disposal and/or demolition applications.

9. Review with other program leaders the status of the HUD-VASH program to maximize utilization.

10. Consult with program directors regarding implementation of departmental management goals, secretarial and presidential initiatives, and Annual Performance Plan commitments. Regional administrators can request review by Headquarters of decisions made by program directors. Where the regional administrator and relevant program director disagree on a major program decision, the regional administrator may report the disagreement to the Assistant Deputy Secretary for Field Policy and Management, who may then raise the matter with the relevant Assistant Secretary or equivalent. The relevant Assistant Secretary or equivalent makes the final determination, subject to review by the Deputy Secretary, as necessary.

B. Administrative Management. Each regional administrator is delegated the following administrative duties:

1. Manage administrative field operation, applicable to all employees at a duty location, including outstationed personnel, through coordination with program directors administrative offices, and supervisors of outstationed personnel. Administrative field operations include, but are not limited to:

• Determining official local office hours of operation.

• Determining emergency office closings due to weather, disaster, or local events.

• Providing effective customer service.

• Working with program directors and all employees to foster a positive working environment;

• Coordinating with the Office of Administration (and its Office of Administration Regional Support Manager to develop and manage an administrative budget that meets the needs of programs and staff in each office.

• Managing internal office communications of a general nature.

2. Regional administrators may request a waiver of specific directives and handbook provisions pertaining to programs in the offices of Housing, Public and Indian Housing, Community Planning and Development, and Fair Housing and Equal Opportunity. Waiver is not authorized for the HUD Litigation Handbook and regulations, or those departmental directives and handbook provisions mandated by or directly predicated on a statute, Executive order, or regulation. Waiver requests by the regional administrator will be forwarded to the Assistant Deputy Secretary for Field Policy and Management, who will forward the requests to the respective program Assistant Secretary for final decision. All waiver requests must be in writing and specify the grounds for requesting the waiver. Regional administrators will be notified in writing of the program Assistant Secretary's decision, through the Office of Field Policy and Management leadership. Only the program Assistant Secretary, or other program office officials with delegated authority to do so, may grant waivers or make a specific delegation of waiver authority.

C. Representation. Each regional administrator is redelegated the following duties:

1. Oversee labor/management relations in the region in coordination with the assigned Employee and Labor Relations representative.

• Based on information provided by the Office of the Chief Human Capital Officer/Employee and Labor Relations Division and with input by the Office of General Counsel, the regional administrator will provide the Assistant Deputy Secretary for Field Policy and Management with regular reports on all open and active labor/management cases that are in process.

2. Work with Headquarters offices, including the Office of Congressional and Intergovernmental Relations, to ensure that Federal, state, local and tribal elected officials within a jurisdiction receive responsive and coordinated customer service. This in no way supersedes the Secretary's delegation of authority to the Assistant Secretary for Congressional and Intergovernmental Relations on October 7, 2011 (Federal Register Docket No. FR-5515-D-01), in which the Secretary delegates to the Assistant Secretary for Congressional and Intergovernmental Relations authority and responsibility for coordinating congressional and intergovernmental relations activities.

3. Manage all field-controlled congressional and intergovernmental correspondence, in consultation with field program directors and in coordination with the Executive Secretariat (Office of Administration) and the Office of Congressional and Intergovernmental Relations.

4. Respond to all media inquiries in conjunction with Headquarters' Office of Public Affairs and field program directors.

5. Administer the local office's web page and internet sources, in coordination with the Office of Public Affairs.

6. Monitor and evaluate customer service.

7. Enter into cosponsorship agreements, with the concurrence of the General Counsel and the relevant program Assistant Secretary or equivalent.

Section II: Authority To Redelegate

Except for those authorities specifically excluded in Section III of this notice, this authority may be redelegated, as appropriate, from regional administrators to field Office directors within the respective jurisdictions.

Section III: Authority Nonredelegable

The following authorities may not be redelegated from the regional administrators to the field office directors or to any other employee:

1. The authority to enter into co-sponsorship agreements.

2. The authority to request waivers as provided by section I.B.3. above.

3. The authority to sign local, areawide, or centerwide negotiated impact and implementation or memorandum of understanding agreements with unions representing smaller units consisting of either Headquarters and/or field employees on issues confined to a single program area and within the regional administrators' own budget authority, including the resolution of unfair labor practice charges and bargaining impasses.

Section IV: Delegations Superseded

This notice supersedes all prior delegations of authority to the regional directors/administrators from the Secretary of HUD or the Assistant Deputy Secretary for Field Policy and Management.

Authority: Section 7(d)(q) of the Department of HUD Act, 42 U.S.C. 3535(d).

Dated: September 19, 2018.
Matthew F. Hunter,
Assistant Deputy Secretary for Field Policy and Management.

[FR Doc. 2018-20960 Filed 9-25-18; 8:45 am]

BILLING CODE 4210-67-P